DEPARTMENT OF ENERGY

Federal Energy Regulatory Commission

[Docket Nos. RP00-486-001 and RP01-40-002]

Cove Point LNG Limited Partnership; Notice of Compliance Filing

June 12, 2002.

Take notice that on May 31, 2002, Cove Point LNG Limited Partnership (Cove Point), tendered for filing as part of its FERC Gas Tariff, Second Revised Volume No. 1, the following revised tariff sheets with a proposed effective date of July 1, 2002:

Second Revised Sheet No. 100

Second Revised Sheet No. 126

Second Revised Sheet No. 127

First Revised Sheet No. 128

Original Sheet No. 128A

Original Sheet No. 128B

Third Revised Sheet No. 129

First Revised Sheet No. 130

First Revised Sheet No. 134

First Revised Sheet No. 135

Original Sheet No. 135A

Second Revised Sheet No. 139

First Revised Sheet No. 141

Original Sheet No. 141A

Cove Point states that the filing is made in compliance with the Commission's Order on Compliance with Order Nos. 637, 587-G, and 587-L issued on May 1, 2002 in the referenced dockets.

Any person desiring to protest said filing should file a protest with the Federal Energy Regulatory Commission, 888 First Street, NE, Washington, DC 20426, in accordance with Section 385.211 of the Commission's Rules and Regulations. All such protests must be filed on or before June 18, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15410 Filed 6-18-02; 8:45 am]

BILLING CODE 6717-01-P